DEPARTMENT OF TRANSPORTATION

Federal Aviation Administration

14 CFR Part 39

[Docket No. 2002-NM-185-AD; Amendment 39-13425; AD 2004-01-11]

RIN 2120-AA64

Airworthiness Directives; Hamburger Flugzeugbau G.m.b.H. Model HFB 320 HANSA Airplanes

AGENCY: Federal Aviation Administration, DOT.

ACTION: Final rule.

SUMMARY: This amendment adopts a new airworthiness directive (AD), applicable to certain Hamburger Flugzeugbau G.m.b.H. Model HFB 320 HANSA airplanes, that requires replacement of the elevator trim control cable assemblies with new assemblies. This action is necessary to prevent loss of elevator trim and possible loss of rudder and/or elevator function due to stress-corrosion cracking of certain cable terminals. This action is intended to address the identified unsafe condition.

DATES: Effective February 13, 2004.

The incorporation by reference of certain publications listed in the regulations is approved by the Director of the Federal Register as of February 13, 2004.

ADDRESSES: The service information referenced in this AD may be obtained from Airbus Deutschland G.m.b.H., Customer Service HFB 320, Mr. Dieter Mewes, Postfach 95 01 09, D-21111 Hamburg, Germany. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer; International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Hamburger Flugzeugbau G.m.b.H. Model HFB 320 HANSA airplanes was published in the Federal Register on November 13, 2003 (68 FR 64282). That action proposed to require replacement of the elevator trim control cable assemblies with new assemblies.

Comments

The public had the opportunity to participate in the development of this AD. No comments have been submitted on the proposed AD or on the determination of the cost to the public.

Conclusion

We have carefully reviewed the available data and determined that air safety and the public interest require adopting the AD as proposed.

Cost Impact

The FAA estimates that 6 airplanes of U.S. registry will be affected by this AD, that it will take approximately 20 work hours to accomplish the replacement, and that the average labor rate is $65 per work hour. Required parts will cost approximately $500 per airplane. Based on these figures, the cost impact of the AD on U.S. operators is estimated to be $10,800, or $1,800 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-01-11 Hamburger Flugzeugbau G.m.b.H.: Amendment 39-13425. Docket 2002-NM-185-AD.

Applicability: Model HFB 320 HANSA airplanes, serial numbers 1023, 1027, 1030, 1032, 1033, 1035 through 1043 inclusive, 1045 through 1047 inclusive, 1050 through 1055 inclusive, 1057 through 1062 inclusive, 1064, and 1065; certificated in any category.

Compliance: Required as indicated, unless accomplished previously.

To prevent loss of elevator trim and possible loss of rudder and/or elevator function due to stress-corrosion cracking of certain cable terminals, accomplish the following:

Replacement

(a) Within 30 flight cycles or 2 months from the effective date of this AD, whichever occurs first, replace the elevator trim control cable assemblies with new assemblies in accordance with the Accomplishment Instructions of HFB 320 Hansa (Hamburger Flugzeugbau G.m.b.H.) Service Bulletin 27-75, dated May 31, 2002.

Alternative Methods of Compliance

(b) In accordance with 14 CFR 39.19, the Manager, International Branch, ANM-116, FAA, is authorized to approve alternative methods of compliance for this AD.

Incorporation by Reference

(c) The actions must be done in accordance with HFB 320 Hansa (Hamburger Flugzeugbau G.m.b.H.) Service Bulletin 27-75, dated May 31, 2002. This incorporation by reference was approved by the Director of the Federal Register in accordance with 5 U.S.C. 552(a) and 1 CFR part 51. Copies may be obtained from Airbus Deutschland G.m.b.H., Customer Service HFB 320, Mr. Dieter Mewes, Postfach 95 01 09, D-21111 Hamburg, Germany. Copies may be inspected at the FAA, Transport Airplane Directorate, 1601 Lind Avenue, SW., Renton, Washington; or at the Office of the Federal Register, 800 North Capitol Street, NW., suite 700, Washington, DC.

Note 1: The subject of this AD is addressed in German airworthiness directive 2002-157, dated May 31, 2002.

Effective Date

(d) This amendment becomes effective on February 13, 2004.

Issued in Renton, Washington, on December 31, 2003.
Michael J. Kaszycki,
Acting Manager, Transport Airplane Directorate, Aircraft Certification Service.

[FR Doc. 04-270 Filed 1-8-04; 8:45 am]

BILLING CODE 4910-13-P